DEPARTMENT OF THE INTERIOR

National Park Service

[NPS-WASO-D-COS-POL-19400; PPWODIREP0; PPMPSPD1Y.YM0000]

Notice of November 4-5, 2015, Meeting of the National Park System Advisory Board

AGENCY: National Park Service, Interior.

ACTION: Meeting notice.

SUMMARY: Notice is hereby given in accordance with the Federal Advisory Committee Act, 5 U.S.C. Appendix 1-16, that the National Park System Advisory Board will meet November 4-5, 2015, in Boston, Massachusetts.

DATES: The Board will meet on November 4-5, 2015.

ADDRESSES: The meeting will be held at the Commandant's House, 21 2nd Avenue, Charlestown Navy Yard, Boston, Massachusetts 02139, telephone (617) 242-5611.

Agenda: On the morning of November 4, the Board will convene its business meeting at 8:15 a.m., Eastern Standard Time, and adjourn for the day at 12:00 p.m. The Board will tour the National Parks of Boston in the afternoon. On November 5, the Board will reconvene at 8:15 a.m., and adjourn at 3:30 p.m. During the course of the two days, the Board may be addressed by National Park Service Director Jonathan Jarvis and briefed by other National Park Service officials regarding education, philanthropy, NPS urban initiatives, science, and the National Park Service Centennial; and receive status briefings on matters pending before committees of the Board.

FOR FURTHER INFORMATION CONTACT: For information concerning the National Park System Advisory Board or to request to address the Board, contact Shirley Sears, National Park Service, MC 0004-Policy, 1849 C Street NW., Washington, DC 20240, telephone (202) 354-3955, email Shirley_Sears@nps.gov.

SUPPLEMENTARY INFORMATION: The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 7th floor conference room at 1201 Eye Street NW., Washington, DC.

Dated: September 29, 2015.
Alma Ripps,
Chief, Office of Policy.

[FR Doc. 2015-25065 Filed 10-1-15; 8:45 am]

BILLING CODE 4310-EE-P